NATIONAL TRANSPORTATION SAFETY BOARD

Sunshine Act Meeting

TIME AND DATE: 9:30 a.m., Tuesday, July 26, 2010.

PLACE: NTSB Conference Center, 429 L'Enfant Plaza, SW., Washington, DC 20594.

STATUS: The ONE item is open to the public.

MATTER TO BE CONSIDERED: 8202 Highway Accident Report—Rollover of a Truck-Tractor and Cargo Tank Semitrailer Carrying Liquefied Petroleum Gas and Subsequent Fire, Indianapolis, Indiana, October 22, 2009.

NEWS MEDIA CONTACT: Telephone: (202) 314-6100.

The press and public may enter the NTSB Conference Center one hour prior to the meeting for set up and seating.

Individuals requesting specific accommodations should contact Rochelle Hall at (202) 314-6305 by Friday, July 22, 2010. The public may view the meeting via a live or archived webcast by accessing a link under “News & Events” on the NTSB home page at http://www.ntsb.gov.

FOR FURTHER INFORMATION CONTACT: Candi Bing, (202) 314-6403 or by e-mail at bingc@ntsb.gov.

Dated: Friday, July 8, 2011.
Candi R. Bing,
Federal Register Liaison Officer.

[FR Doc. 2011-17633 Filed 7-8-11; 4:15 pm]

BILLING CODE 7533-01-P